DEPARTMENT OF ENERGY

Federal Energy Regulatory Commission

[Project Nos. 2618-020-ME; 2660-024-ME]

Woodland Pulp LLC; Notice of Availability of Draft Environmental Assessment

In accordance with the National Environmental Policy Act of 1969 and the Federal Energy Regulatory Commission's (Commission) regulations, 18 CFR Part 380 (Order No. 486, 52 FR 47897), the Office of Energy Projects has reviewed the applications for new licenses for the West Branch Project (FERC Project No. 2618) and the Forest City Project (FERC Project No. 2660). The West Branch Project is located on the West Branch of the St. Croix River in Penobscot, Washington, and Hancock Counties, Maine. The Forest City Project is located on the East Branch of the St. Croix River in Washington and Aroostook Counties, Maine.

Staff prepared a multi-project draft environmental assessment (EA), which analyzes the potential environmental effects of licensing the projects, and concludes that licensing the projects, with appropriate environmental protective measures, would not constitute a major federal action that would significantly affect the quality of the human environment.

A copy of the draft EA is on file with the Commission and is available for public inspection. The draft EA may also be viewed on the Commission's Web site at http://www.ferc.gov using the “eLibrary” link. Enter the docket number, excluding the last three digits, in the docket number field, to access documents. For assistance, contact FERC Online Support at FERCOnlineSupport@ferc.gov or toll-free at 1-866-208-3676, or for TTY, (202) 502-8659. You may also register online at http://www.ferc.gov/docs-filing/esubscription.asp to be notified via email of new filings and issuances related to these or other pending projects. For assistance, contact FERC Online Support.

Any comments should be filed within 45 days from the date of this notice. Comments may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/eComment.asp. You must include your name and contact information at the end of your comments.

For assistance, please contact FERC Online Support. Although the Commission strongly encourages electronic filing, documents may also be paper-filed. To paper-file, mail comments to: Kimberly D. Bose, Secretary, Federal Energy Regulatory Commission, 888 First Street, Washington, DC 20426. Please affix “West Branch Project No. 2618-020” and/or “Forest City Project No. 2660-024” to all comments.

For further information, contact Amy Chang at (202) 502-8250 or amy.chang@ferc.gov.

Dated: October 16, 2014.
Kimberly D. Bose,
Secretary.

[FR Doc. 2014-25224 Filed 10-22-14; 8:45 am]

BILLING CODE 6717-01-P